SURFACE TRANSPORTATION BOARD

[Docket No. FD 36418]

Alabama & Gulf Coast Railway LLC—Temporary Trackage Rights Exemption—The Kansas City Southern Railway Company

Alabama & Gulf Coast Railway LLC (AGR), a Class III railroad, has filed a verified notice of exemption under 49 CFR 1180.2(d)(8) for the acquisition of temporary trackage rights, for overhead operations, by AGR over a 100-mile rail line (the Line) of The Kansas City Southern Railway Company (KCS) between KCS milepost 15.1 in Columbus, Miss., and KCS milepost 135.2 in Meridian, Miss., including yard trackage at KCS Meridian Yard at KCS milepost 135 as necessary to connect with the Meridian & Bigbee Railroad, L.L.C., pursuant to the terms of a temporary trackage rights agreement dated July 1, 2020 (Agreement).¹

¹ A redacted copy of the Agreement is attached to the verified notice. An unredacted copy has been filed under seal along with a motion for protective order pursuant to 49 CFR 1104.14. That motion is addressed in a separate decision.

AGR states that an AGR train derailed and damaged a bridge two miles north of Aliceville, Ala., rendering the bridge inoperable. The purpose of the temporary trackage rights is to accommodate AGR's emergency detour operations over the Line while AGR's main line is repaired and the bridge is replaced. AGR states that it will cease use of the Line upon completion of the repairs and that the temporary trackage rights will expire no later than August 31, 2020.

AGR concurrently filed a petition for waiver of the 30-day period under 49 CFR 1180.4(g)(1) to allow the proposed temporary trackage rights to become effective immediately. By decision served July 2, 2020, the Board granted AGR's request. As a result, this exemption is now effective.

As a condition to this exemption, any employees affected by the acquisition of the temporary trackage rights will be protected by the conditions imposed in Norfolk & Western Railway—Trackage Rights—Burlington Northern, Inc., 354 I.C.C. 605 (1978), as modified in Mendocino Coast Railway—Lease & Operate—California Western Railroad, 360 I.C.C. 653 (1980), and any employees affected by the discontinuance of those trackage rights will be protected by the conditions set out in Oregon Short Line Railroad—Abandonment Portion Goshen Branch Between Firth & Ammon, in Bingham & Bonneville Counties, Idaho, 360 I.C.C. 91 (1979).

If the verified notice contains false or misleading information, the exemption is void ab initio. Petitions to revoke the exemption under 49 U.S.C. 10502(d) may be filed at any time. The filing of a petition to revoke will not automatically stay the effectiveness of the exemption.

All pleadings, referring to Docket No. FD 36418, must be filed with the Surface Transportation Board either via e-filing or in writing addressed to 395 E Street SW, Washington, DC 20423-0001. In addition, a copy of each pleading must be served on ARG's representative, Eric M. Hocky, Esq., Clark Hill, PLC, Two Commerce Square, 2001 Market St., Suite 2620, Philadelphia, PA 19103.

According to AGR, this action is categorically excluded from environmental review under 49 CFR 1105.6(c) and historic reporting under 49 CFR 1105.8(b)(3).

Board decisions and notices are available at www.stb.gov.

Decided: July 2, 2020.
By the Board, Allison C. Davis, Director, Office of Proceedings.
Tammy Lowery,
Clearance Clerk.

[FR Doc. 2020-14786 Filed 7-9-20; 8:45 am]

BILLING CODE 4915-01-P